DEPARTMENT OF COMMERCE

National Oceanic and Atmospheric Administration

RIN: 0648-XR16

North Pacific Fishery Management Council; Public Meetings

AGENCY: National Marine Fisheries Service (NMFS), National Oceanic and Atmospheric Administration (NOAA), Commerce.

ACTION: Notice of public meetings.

SUMMARY: The North Pacific Fishery Management Council's Gulf of Alaska (GOA) and Bering Sea/Aleutian Islands (BS/AI) groundfish plan teams will meet in Seattle.

DATES: The meetings will be held September 15-18, 2009. The joint plan team meeting will begin at 1 p.m. on Tuesday, September 15 and continue through noon on Friday, September 18. The GOA Plan Team will convene separately at 1 p.m. on Friday, September 18 in Room 1055. The BSAI Plan Team will convene separately at 1 p.m. on Friday, September 18 in the Traynor Room.

ADDRESSES: The meetings will be held at the Alaska Fisheries Science Center, 7600 Sand Point Way N.E., Building 4, Observer Training Room (GOA Plan Team) and Traynor Room (Joint Teams and BS/AI Plan Team), Seattle, WA.

Council address: North Pacific Fishery Management Council, 605 W. 4th Ave., Suite 306, Anchorage, AK 99501-2252.

FOR FURTHER INFORMATION CONTACT: Jane DiCosimo or Diana Stram, North Pacific Fishery Management Council; telephone: (907) 271-2809.

SUPPLEMENTARY INFORMATION: Agenda: Principal business is to prepare and review the draft Economic Report, the draft Ecosystems Consideration Chapter, proposed modeling changes to stock assessments for some target-categories, proposed 2010-12 halibut discard mortality rates for all groundfish fisheries, and recommend preliminary groundfish catch specifications for 2008/09. The teams will also review proposed uncertainty corrections and Allowable Biological Catch control rules for stock assessments, application of stock structure for area management, vulnerability analyses for identifying which groundfish stocks could be categorized as “in the fishery” versus in a new ecosystem component category, and recommendations for criteria for evaluating proposals to create new habitat areas of particular concern.

The agenda is posted on the Council website at: http://www.alaskafisheries.noaa.gov/npfmc/

Although non-emergency issues not contained in this agenda may come before these groups for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Gail Bendixen, (907) 271-2809, at least 5 working days prior to the meeting date.

Dated: August 24, 2009.
Tracey L. Thompson,
Acting Director, Office of Sustainable Fisheries, National Marine Fisheries Service.

[FR Doc. E9-20688 Filed 8-26-09; 8:45 am]

BILLING CODE 3510-22-S